NUCLEAR REGULATORY COMMISSION

[Docket Nos. 50-220, 50-410, and 72-1036; NRC-2015-0248]

Exelon Generation Company, LLC; Nine Mile Point Nuclear Station Units 1 and 2

AGENCY: Nuclear Regulatory Commission.

ACTION: Draft environmental assessment and finding of no significant impact; request for comment.

SUMMARY: The U.S. Nuclear Regulatory Commission (NRC) is issuing a draft environmental assessment (EA) and finding of no significant impact (FONSI) for public comment related to a request to amend the Renewed Facility Operating License Nos. DPR-63, NPR-69, and Docket No. 72-1036, issued to Exelon Generation Company, LLC (Exelon, “the licensee”), for operation of the Nine Mile Point Nuclear Station, Units 1 and 2, including the general-licensed Independent Spent Fuel Storage Installation (hereinafter “NMP” or “the facility”), located in Oswego County, New York. The requested amendment would permit licensee security personnel to use certain firearms and ammunition feeding devices not previously permitted, notwithstanding State, local, and certain Federal firearms laws or regulations that otherwise prohibit such actions.

DATES: Submit comments by November 30, 2015. Comments received after this date will be considered if it is practical to do so, but the Commission is able to ensure consideration only for comments received before this date. Any potential party, as defined in 2.4, of title 10 of the Code of Federal Regulations (10 CFR), who believes access to Sensitive Unclassified Non-Safeguards Information (SUNSI) is necessary to respond to this notice must request document access by November 9, 2015.

ADDRESSES: You may submit comments by any of the following methods (unless this document describes a different method for submitting comments on a specific subject):

• Federal Rulemaking Web site: Go to http://www.regulations.gov and search for Docket ID NRC-2015-0248. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information” and “Submitting Comments” in the SUPPLEMENTARY INFORMATION section of this document.

FOR FURTHER INFORMATION CONTACT: Mr. Douglas V. Pickett, telephone: 301-415-1364, email: douglas.pickett@nrc.gov, U.S. Nuclear Regulatory Commission, Washington DC 20555-0001.

SUPPLEMENTARY INFORMATION:

I. Obtaining Information and Submitting Comments

A. Obtaining Information

Please refer to Docket ID NRC-2015-0248 when contacting the NRC about the availability of information for this action. You may obtain publicly-available information related to this action by any of the following methods:

• Federal rulemaking Web site: Go to http://www.regulations.gov and search for Docket ID NRC-2015-0248.

NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The application for amendment for NMP dated August 14, 2013, was supplemented by letters dated September 10, 2013, May 14, 2014, and January 16, 2015 (ADAMS Accession Nos. ML13228A265, ML13260A257, ML14139A342, and ML15020A100, respectively). Those letters containing SUNSI are being withheld from public disclosure.

• NRC's PDR: You may examine and purchase copies of public documents at the NRC's PDR, Room O1-F21, One White Flint North, 11555 Rockville Pike, Rockville, Maryland 20852.

B. Submitting Comments

Please include Docket ID NRC-2015-0248 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Introduction

The NRC is considering a request to amend Renewed Facility Operating License Nos. DPR-63, NPR-69, and Docket No. 72-1036, issued to Exelon for operation of NMP located in Oswego County, New York, in accordance with 10 CFR 50.90. Therefore, as required by 10 CFR 51.21 and 10 CFR 51.33, the NRC has prepared a Draft Environmental Assessment and Finding of No Significant Impact documenting its finding. The requested amendment would permit licensee security personnel to use certain firearms and ammunition feeding devices not previously permitted, notwithstanding State, local, and certain Federal firearms laws or regulations that otherwise prohibit such actions.

III. Draft Environmental Assessment and Finding of No Significant Impact

Identification of the Proposed Action

The proposed action would permit security personnel at NMP, in the performance of official duties, to transfer, receive, possess, transport, import, and use certain firearms and large capacity ammunition feeding devices not previously permitted to be owned or possessed, notwithstanding State, local, and certain Federal firearms laws, or regulations, that otherwise prohibit such actions.

The proposed action is in accordance with Exelon's application dated August 14, 2013, as supplemented by letters dated September 10, 2013, May 14, 2014, and January 16, 2015.

The Need for the Proposed Action

The proposed action would allow the transfer, receipt, possession, transportation, importation and use of those firearms and devices needed in the performance of official duties required for the protection of NMP and associated special nuclear materials, consistent with the NMP NRC-approved security plan.

Environmental Impacts of the Proposed Action

The NRC has completed its evaluation of the proposed action and concludes that the proposed action only allow the use of those firearms and devices necessary to protect NMP and associated special nuclear material, consistent with the NMP NRC-approved security plant. Therefore, the proposed action would not significantly increase the probability or consequences of accidents. In addition, the proposed action would not change the types and the amounts of any effluents that may be released offsite. There would also be no significant increase in occupational or public radiation exposure. Therefore, there would be no significant radiological environmental impacts associated with the proposed action.

The proposed action would not impact land, air, or water resources, including biota. In addition, the proposed action would not result in any socioeconomic or environmental justice impacts or impacts to historic and cultural resources. Therefore, there would also be no significant non-radiological environmental impacts associated with the proposed action.

Accordingly, the NRC concludes that the issuance of the requested amendment would not result in significant environmental impacts.

The NRC will publish in the Federal Register a copy of the final environmental assessment as part of the final finding of no significant impact.

Environmental Impacts of the Alternatives to the Proposed Action

As an alternative to the proposed action, the staff considered denying the proposed action (i.e., the “no-action” alternative). Denial of the license amendment request would result in no change in current environmental conditions at NMP.

Alternative Use of Resources

The proposed action would not involve the use of any resources.

Agencies and Persons Consulted

The staff did not consult with any other Federal Agency or State of New York agencies regarding the environmental impact of the proposed action.

IV. Finding of No Significant Impact

The licensee has requested a license amendment to permit licensee security personnel, in the performance of official duties, to transfer, receive, possess, transport, import, and use certain firearms and large capacity ammunition feeding devices not previously permitted to be owned or possessed, notwithstanding State, local, and certain Federal firearms laws, or regulations that would otherwise prohibit such actions.

On the basis of the information presented in this environmental assessment, the NRC concludes that the proposed action would not cause any significant environmental impact and would not have a significant effect on the quality of the human environment. In addition, the NRC has determined that an environmental impact statement is not necessary for the evaluation of this proposed action.

Other than the licensee's letter dated August 14, 2013, there are no other environmental documents associated with this review. This document is available for public inspection as indicated above.

Dated at Rockville, Maryland, this 22nd day of October 2015.
For the Nuclear Regulatory Commission.
Benjamin G. Beasley,
Chief, Plant Licensing Branch 1-1, Division of Operating Reactor Licensing, Office of Nuclear Reactor Regulation.

[FR Doc. 2015-27644 Filed 10-28-15; 8:45 am]

BILLING CODE 7590-01-P